DEPARTMENT OF HEALTH AND HUMAN SERVICES

National Institutes of Health

National Human Genome Research Institute; Amended Notice of Meeting

Notice is hereby given of a change in the meeting of the Center for Inherited Disease Research Access Committee, April 27, 2006, 8:30 a.m. to April 27, 2006, 5 p.m., George Washington University Inn, 824 New Hampshire Avenue, NW., Washington, DC 20037 which was published in the Federal Register on February 15, 2006, 71 FRN 7981.

The meeting of the Center for Inherited Disease Research Access Committee will also include a session on April 26, 2006, from 7 p.m. to 10 p.m. at The George Washington University Inn. The meeting is closed to the public.

Dated: March 8, 2006.
Anna Snouffer,
Acting Director, Office of Federal Advisory Committee Policy.

[FR Doc. 06-2521 Filed 3-14-06; 8:45 am]

BILLING CODE 4140-01-M